DEPARTMENT OF THE TREASURY

Internal Revenue Service

Senior Executive Service Performance Review Board

AGENCY: Internal Revenue Service (IRS), Department of the Treasury.

ACTION: Notice.

SUMMARY: To announce a list of senior executives who comprise a standing roster that will serve on IRS's Fiscal Year 2019 Senior Executive Service (SES) Performance Review Boards.

DATES: This list of senior executives is effective September 1, 2019.

FOR FURTHER INFORMATION CONTACT: Sharnetta A. Walton, Director, Office of Executive Services at (202) 317-3817 or Candice I. Jones, Assistant Director, Office of Executive Services at (202) 317-6284, IRS, 1111 Constitution Avenue NW, Washington, DC 20224.

SUPPLEMENTARY INFORMATION: Pursuant to 5 U.S.C. 4314(c)(4), this board shall review and evaluate the initial appraisals of career senior executives' performance and provide recommendations to the appointing authority on performance ratings, pay adjustments and performance awards. The senior executives are as follows:

Jeffrey J. Tribiano, Chair

Sunita Lough

David P Alito

William H. Ankrum

Scott A. Ballint

Robert J. Bedoya

Michael C. Beebe

Jennifer L. Best

Thomas A. Brandt

Linda J. Brown

Carol A. Campbell

John V. Cardone

Robert Choi

Elita I. Christiansen

James P. Clifford

Amalia C. Colbert

Kenneth C. Corbin

Robert S. Cox

Tracy DeLeon

Brenda A. Dial

Joseph Dianto

Donald C. Drake

John C. Duder

Elizabeth A. Dugger

Nikole C. Flax

John D. Fort

Ursula S. Gillis

Linda K. Gilpin

Dietra D. Grant

Darren J. Guillot

Daniel S. Hamilton

Donna C. Hansberry

Barbara L. Harris

Gearl D. Harris

Nancy E. Hauth

Mary R. Hernandez

John E. Hinding

Carrie Y. Holland

David W. Horton

Cecil T. Hua

Eric C. Hylton

Scott E. Irick

Sharon C. James

Tracy A. Keeter

Andrew J. Keyso Jr.

Edward T. Killen

Robert M. Leahy Jr.

James C. Lee

Terry Lemons

William H. Maglin II

Paul J. Mamo

Lee D. Martin

Steven M. Martin

Erick Martinez

Ivy S. McChesney

Kevin Q. McIver

Karen A. Michaels

Kevin M. Morehead

Mary E. Murphy

Frank A. Nolden

Douglas W. O'Donnell

Kaschit D. Pandya

Holly O. Paz

Richard A. Peterson

Robert A. Ragano

Scott D. Reisher

Tamera L. Ripperda

Bridget T. Roberts

Richard L. Rodriguez

Frederick W. Schindler

Theodore D. Setzer

Verline A. Shepherd

Nancy A. Sieger

Susan Simon

Harrison Smith

Tommy A. Smith

Gloria C. Sullivan

John J. Tuzynski

Margaret Von Lienen

Keith A. Walker

Shanna R. Webbers

Lavena B. Williams

This document does not meet the Treasury's criteria for significant regulations.

Kirsten B. Wielobob,
Deputy Commissioner for Services and Enforcement, Internal Revenue Service.

[FR Doc. 2019-19200 Filed 9-4-19; 8:45 am]

BILLING CODE P